DEPARTMENT OF ENERGY

Bonneville Power Administration

Long-Term Regional Dialogue Policy

AGENCY: Bonneville Power Administration (BPA), Department of Energy (DOE).

ACTION: Notice of availability of a National Environmental Policy Act (NEPA) Record of Decision (ROD).

SUMMARY: This notice announces the availability of the NEPA ROD for BPA's adoption of a policy for its power supply role after fiscal year 2011. This policy is intended to provide BPA's customers with greater clarity about their Federal power supply so they can effectively plan for the future and, if they choose, make capital investments in long-term electricity infrastructure. Each of the issues in this Long-Term Regional Dialogue Policy that were found to have any environmental effects were determined to be within the scope of the Market-Driven Alternative adopted in the Business Plan ROD. Thus, this NEPA ROD is consistent with and tiered to the Business Plan Environmental Impact Statement (DOE/EIS-0183, June 1995) and the Business Plan ROD (August 15, 1995). The Policy, which is the result of a Regional Dialogue process that began in 2002, is described more fully in a separately issued Administrator's ROD that addresses the legal and policy rationale supporting the administrative decisions in the Regional Dialogue.

ADDRESSES: Copies of the following documents may be obtained by calling BPA's toll-free document request line, 1-800-622-4520, or by visiting the Web site at: http://www.efw.bpa.gov: the NEPA ROD for the Long-Term Regional Dialogue Policy; the Administrator's ROD on the policy; and the Business Plan EIS and ROD.

FOR FURTHER INFORMATION, CONTACT: Katherine S. Pierce, Bonneville Power Administration KEC-4, P.O. Box 3621, Portland, Oregon, 97208-3621; toll-free telephone number 1-800-282-3713; fax number 503-230-5699; or e-mail kspierce@bpa.gov.

SUPPLEMENTARY INFORMATION: The Business Plan EIS and ROD to which this NEPA ROD is tiered were prepared to support a number of decisions including the products and services BPA will market, rates for BPA's products and services, policy direction for BPA's sale of power products to customers, contract terms BPA will offer for power sales, and plans for BPA's resource acquisitions and power purchase contracts. Each of the issues in this Long-Term Regional Dialogue Policy has been evaluated for environmental effects. Some of the policy issues do not have the potential to result in environmental effects; others are a continuation of the status quo. For the remaining issues, any environmental effects have already been addressed in the Business Plan EIS.

Issued in Portland, Oregon, on July 19, 2007.
Stephen J. Wright,
Administrator and Chief Executive Officer.

[FR Doc. E7-14529 Filed 7-26-07; 8:45 am]

BILLING CODE 6450-01-P